DEPARTMENT OF AGRICULTURE

Submission for OMB Review; Comment Request

May 27, 2020.

The Department of Agriculture has submitted the following information collection requirement(s) to OMB for review and clearance under the Paperwork Reduction Act of 1995. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by July 2, 2020 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Office of Partnerships and Public Engagement

Title: Community of Faith and Opportunity Initiative.

OMB Control Number: 0503-NEW.

Summary of Collection: The Office of Partnerships and Public Engagement (OPPE) (previously known as the Office of Advocacy and Outreach) was established pursuant to section 226B of the Department of Agriculture Reorganization Act of 1994 (7 U.S.C. 6934), as added by section 14013 of the Food, Conservation, and Energy Act of 2008, Public Law 110-246. The OPPE was established to improve access to USDA programs and services by small farms and ranches, beginning farmers and ranchers, and socially disadvantaged farmers and ranchers. Delegations from the Assistant Secretary for Administration to the Director, OPPE are reflected in 7 CFR 2.94 and include certain outreach functions previously carried out by other elements within USDA.

Need and Use of the Information: The Communities of Faith and Opportunity initiative seeks to better understand the challenges facing rural and underserved communities across the country, while also providing outreach and assistance to build the local capacity needed to address community challenges. Communities are invited to participate in outreach summits, capacity building workshops, as well as provide additional information to become a Community of Faith and Opportunity.

Respondents will be required to submit a mailing address, telephone, and email address for themselves, the name and email address for any partners and/or potential stakeholders. They will also be required to identify at least 5 community challenges or projects in which they wish USDA assistance to address. Submitted information will be used by USDA agencies, grant recipients and Land Grant University Extension Staff on an as needs basis to provide technical assistance, services and recommendations to communities to address the self-identified challenges and community projects on an as needs basis. The information will also be used by the OPPE to evaluate the effectiveness and efficiency of the initiative.

Description of Respondents: Not-for-profit institutions; Small businesses.

Number of Respondents: 200.

Frequency of Responses: Reporting: On occasion.

Total Burden Hours: 150.

Ruth Brown,
Departmental Information Collection Clearance Officer.

[FR Doc. 2020-11766 Filed 6-1-20; 8:45 am]

BILLING CODE 3412-88-P